DEPARTMENT OF DEFENSE

Department of the Air Force

Announcement of IS-GPS-200, IS-GPS-705, IS-GPS-800 Interface Control Working Group (ICWG) Teleconference Meeting

AGENCY: Department of the Air Force, DoD.

ACTION: Teleconference Meeting notice.

SUMMARY: This notice informs the public that the Global Positioning Systems Wing will be hosting an Interface Control Working Group (ICWG) teleconference meeting for document/s IS-GPS-200E (NAVSTAR GPS Space Segment/Navigation User Interfaces), IS-GPS-705A (NAVSTAR GPS Space Segment/User Segment L5 Interfaces), and IS-GPS-800A (NAVSTAR GPS Space Segment/User Segment L1C Interfaces). The main focus of this meeting is to address proposed changes relevant to the topics of signal coherence, carrier phase noise, and correlation loss.

The ICWG Teleconference is open to the general public. Dial-in information is provided below. More information, including Comments Resolution Matrixes (CRMs) and track changed documents, will be posted at: http://www.losangeles.af.mil/library/factsheets/factsheet.asp?id=9364.

Please send all CRM comments to Vimal Gopal by 5 March 2010.

DATES: 10 March 2010: IS-GPS-200E/IS-GPS-705A/IS-GPS-800A. 8 a.m.-12 p.m. (Pacific Time).

Dial in Information: Phone: 1-800-FON-SAIC (1-800-366-7242) Code: 4511074.

FOR FURTHER INFORMATION CONTACT: Vimal Gopal vimal.gopal.ctr@losangeles.af.mil 1-310-909-7294 or Captain Neal Roach neal.roach@losangeles.af.mil 1-310-653-3771.

Bao-Anh Trinh, YA-3,
Air Force Federal Register Liaison Officer.

[FR Doc. 2010-3645 Filed 2-25-10; 8:45 am]

BILLING CODE 5001-05-P